DEPARTMENT OF HEALTH AND HUMAN SERVICES

National Biodefense Science Board: Public Meeting

AGENCY: Office of the Assistant Secretary for Preparedness and Response (ASPR), Department of Health and Human Services (HHS).

ACTION: Notice.

SUMMARY: The HHS Office of the Secretary is hosting the National Biodefense Science Board (NBSB) Public Meeting in Washington, DC, December 3, 2019. The purpose of the meeting is to gather information to develop expert advice provided by NBSB and guidance to the Secretary on scientific, technical, and other matters of special interest to HHS regarding current and future chemical, biological, nuclear, and radiological agents, whether naturally occurring, accidental, or deliberate. Retiring NBSB board members will also be presented with certificates and a signed letter of appreciation.

DATES: The NBSB Public Meeting is being held December 3, 2019, from 10:30 a.m. to 4:30 p.m. Eastern Daylight Time (EDT).

ADDRESSES: Please visit the NBSB website (https://www.phe.gov/nbsb) for all additional information regarding the NBSB or meeting details.

FOR FURTHER INFORMATION CONTACT: CAPT Christopher Perdue, MD, MPH, Designated Federal Official, NBSB, ASPR, HHS; 202-401-5837; christopher.perdue@hhs.gov.

SUPPLEMENTARY INFORMATION: Pursuant to section 319M of the Public Health Service Act, HHS has established the NBSB to provide expert advice and guidance to the Secretary on scientific, technical, and other matters of special interest to HHS regarding current and future chemical, biological, nuclear, and radiological agents, whether naturally occurring, accidental, or deliberate.

Availability of Materials: Participants are encouraged to visit the NBSB website (http://www.phe.gov/nbsb) for information about the meeting, including the agenda.

Procedures for Providing Public Input: Members of the public are encouraged to go to the NBSB website (http://www.phe.gov/nbsb) for instructions about the submission of written comments.

Dated: November 20, 2019.
Robert P. Kadlec,
Assistant Secretary for Preparedness and Response.

[FR Doc. 2019-25544 Filed 11-22-19; 8:45 am]

BILLING CODE 4150-37-P